DEPARTMENT OF THE INTERIOR

Bureau of Indian Affairs

Final Programmatic Environmental Impact Statement for the Proposed Navajo Ten-Year Forest Management Plan, Navajo Nation, Arizona/New Mexico

AGENCY: Bureau of Indian Affairs, Interior.

ACTION: Notice.

SUMMARY: This notice advises the public the Bureau of Indian Affairs (BIA) intends to file a Final Programmatic Environmental Impact Statement (FPEIS) for the proposed Navajo Nation Ten-Year Forest Management Plan with the U.S. Environmental Protection Agency. The FPEIS, which was prepared in cooperation with the Navajo Nation, is now available for public review. Details on the project location and on the alternatives and environmental issues addressed in the FPEIS are provided under the SUPPLEMENTARY INFORMATION section.

DATES: Comments on the Final Programmatic Environmental Impact Statement must be received by December 21, 2002.

ADDRESSES: You may mail or hand carry written comments to Jonathan Martin, Regional Forester, Bureau of Indian Affairs, Navajo Regional Office, PO Box 1060, Gallup, New Mexico 87305.

Copies of the FPEIS have been sent to all agencies and individuals who participated in the scoping process or public hearings, and to those who commented on the Draft FPEIS. To get a copy of the FPEIS, please write to the Navajo Nation Forestry Department, PO Box 230, Fort Defiance, Arizona 86504, or call (928) 729-4007. The FPEIS is available for review at two locations: (1) The Branch of Environmental Services, Navajo Regional Office, Federal Building, 301 West Hill, Gallup, New Mexico; and (2) the Branch of Forestry, Bureau of Indian Affairs, 1 mile north on Route 12, Fort Defiance, Arizona.

FOR FURTHER INFORMATION CONTACT: Jonathan Martin, (928) 729-7228.

SUPPLEMENTARY INFORMATION: The proposed action is to adopt a ten-year forest management plan for the Navajo Forest. The Navajo Forest lies in the Chuska Mountains and Defiance Plateau areas of the Navajo Nation, along the Arizona-New Mexico border. The area encompasses nearly 600,000 acres.

The FPEIS presents a preferred alternative, the no action alternative and three other alternatives. The preferred alternative uses even-aged and uneven-aged management for timber harvesting, with consideration for Special Management Areas (SMAs) that would be excluded from commercial timberland to protect critical wildlife habitat and vital watershed areas. The other alternatives are (1) No action, which would continue current levels of timber harvesting with even-aged management and without consideration for SMAs; (2) even-aged management for timber harvesting, with consideration for SMAs; (3) uneven-aged management for timber harvesting, without consideration for SMAs; and (4) no timber harvesting or SMAs. All of the alternatives include timber protection plus monitoring and/or mitigation measures.

Areas of environmental concern addressed in the FPEIS include timber resources, other forest resources, water resources, biological resources, air quality, cultural resources and socio-economics.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality Regulations (40 CFR part 1500 through 1508) implementing the procedural requirements of the National Environmental Policy Act of 1969, as amended (42 U.S.C. 4371 et seq.), and the Department of the Interior Manual (516 DM 1-6), and is in the exercise of authority delegated to the Assistant Secretary—Indian Affairs by 209 DM 8.

Dated: October 25, 2002.
Neal A. McCaleb,
Assistant Secretary—Indian Affairs.

[FR Doc. 02-29404 Filed 11-19-02; 8:45 am]

BILLING CODE 4310-W7-P